DEPARTMENT OF COMMERCE

National Oceanic and Atmospheric Administration

[RTID 0648-XD977]

Endangered and Threatened Species; Take of Anadromous Fish

AGENCY: National Marine Fisheries Service (NMFS), National Oceanic and Atmospheric Administration (NOAA), Commerce.

ACTION: Notice; issuance for a permit to enhance the propagation and survival of endangered and threatened species; availability of a final environmental assessment and finding of no significant impact.

SUMMARY: This notice advises the public that a direct take permit has been issued pursuant to the Endangered Species Act of 1973 (ESA) for research and enhancement purposes in the San Joaquin River Basin, Central Valley, California. Permit 20571-2R has been issued to the U.S. Fish and Wildlife Service for implementation of one Hatchery and Genetic Management Plan associated with the San Joaquin River Restoration Program's (SJRRP) Salmon Conservation and Research Facility, operating to reintroduce Central Valley spring-run Chinook salmon to the San Joaquin River and collection of broodstock to facilitate said reintroduction. The Final Environmental Assessment (EA) incorporates, where appropriate, agency and public comments received on the Draft EA, which was available for public review from November 24, 2023, to December 24, 2023. During the public comment period of the Draft EA, NOAA received no comments; as a result no changes were made. This document has been prepared in compliance with the Council on Environmental Quality's (CEQ) National Environmental Policy Act (NEPA) regulations currently in effect.

DATES: Permit 20571-2R was issued on March 25, 2024 with an expiration date of December 31, 2028. The issued permit is subject to certain conditions set forth therein. Subsequent to issuance, the necessary countersignatures by the applicants were received.

ADDRESSES: Requests for copies of the decision documents or any of the other associated documents should be directed to NOAA's National Marine Fisheries Service, California Central Valley Office, 650 Capitol Mall, Suite 5-100, Sacramento, California 95814. The Final EA and associated Finding of No Significant Impact (FONSI) are available online at: https://www.fisheries.noaa.gov/west-coast/laws-and-policies/hatchery-national-environmental-policy-act-nepa-documents. The decision documents for Permit 20571-2R are also available online at: http://www.westcoast.fisheries.noaa.gov/hatcheries/salmon_and_steelhead_hatcheries.html.

FOR FURTHER INFORMATION CONTACT: Hilary Glenn, Sacramento, California (Phone: 916-930-3706; Fax: 916-930-3629; email: Hilary.glenn@noaa.gov).

SUPPLEMENTARY INFORMATION: This notice is relevant to the following species and evolutionarily significant units (ESU)/distinct population segments (DPS):

Chinook salmon (Oncorhynchus tshawytscha): Threatened, naturally produced and artificially propagated Central Valley spring-run;

Steelhead (Oncorhynchus mykiss): Threatened, naturally produced and artificially propagated California Central Valley; and

North American green sturgeon (Acipenser medirostris): Threatened, naturally produced Southern DPS.

Dated: May 17, 2024.
Angela Somma,
Chief, Endangered Species Division, Office of Protected Resources, National Marine Fisheries Service.

[FR Doc. 2024-11278 Filed 5-22-24; 8:45 am]

BILLING CODE 3510-22-P